DEPARTMENT OF THE INTERIOR

Fish and Wildlife Service

[FWS-R9-IA-2008-N0275; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by November 14, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: National Institutes of Health, National Cancer Institute, Frederick, MD, PRT-185986

The applicant requests a permit to import biological samples as well as salvaged specimens from wild, captive-held, and/or captive-born Andean condors (Vultur gryphus) collected worldwide, for the purpose of scientific research. No animals would be intentionally killed for the purpose of collecting specimens. Any invasively collected samples would only be collected by trained personnel. This notification covers activities to be conducted by the applicant over a five-year period.

Applicant: Jeffrey D. Willis, Riverview, FL, PRT-193938

The applicant requests a permit to import the sport-hunted trophy of one male bontebok (Damaliscus pygargus pygargus) culled from a captive herd maintained under the management program of the Republic of South Africa, for the purpose of enhancement of the survival of the species.

Applicant: Edward L. Mabry, Aiken, SC, PRT-194016

The applicant requests a permit to import the sport-hunted trophy of one male bontebok (Damaliscus pygargus pygargus) culled from a captive herd maintained under the management program of the Republic of South Africa, for the purpose of enhancement of the survival of the species.

Applicant: Gregory S. Williamson, Cresson, TX, PRT-195419

The applicant requests a permit to import the sport-hunted trophy of one male bontebok (Damaliscus pygargus pygargus) culled from a captive herd maintained under the management program of the Republic of South Africa, for the purpose of enhancement of the survival of the species.

Applicant: Thomas E. Freestone, Safford, AZ, PRT-194655

The applicant requests a permit to import the sport-hunted trophy of one male bontebok (Damaliscus pygargus pygargus) culled from a captive herd maintained under the management program of the Republic of South Africa, for the purpose of enhancement of the survival of the species.

Applicant: Arno W. Weiss, Jr., St. Charles, MI, PRT-191093

The applicant requests a permit to import the sport-hunted trophy of one male scimitar-horned oryx (Oryx dammah) culled from a captive herd in the Republic of South Africa, for the purpose of enhancement of the survival of the species.

Dated: September 26, 2008.
Lisa J. Lierheimer,
Senior Permit Biologist, Branch of Permits, Division of Management Authority.

[FR Doc. E8-24544 Filed 10-14-08; 8:45 am]

BILLING CODE 4310-55-P